FEDERAL COMMUNICATIONS COMMISSION

47 CFR Part 73

[MB Docket Nos. 14-50, 09-182, 07-294, 04-256; FCC 16-107]

2014 Quadrennial Regulatory Review

AGENCY: Federal Communications Commission.

ACTION: Final rule; announcement of effective date.

SUMMARY: In this document, the Federal Communications Commission (Commission) announces that the Office of Management and Budget (OMB) has approved the information collection requirements associated with the Commission's Second Report and Order, 2014 Quadrennial Regulatory Review, FCC 16-107. This document is consistent with the Second Report and Order, which stated that the Commission would publish a document in the Federal Register announcing OMB approval and the effective date of changes to the forms.

DATES: Changes to FCC Form 301, FCC Form 314, and FCC Form 315, published at 81 FR 76220-01, Nov. 1, 2016, are effective on May 16, 2017.

FOR FURTHER INFORMATION CONTACT: Cathy Williams by email at Cathy.Williams@fcc.gov and telephone at (202) 418-2918.

SUPPLEMENTARY INFORMATION: This document announces that on January 11, 2017, OMB approved the information collection requirements, OMB Control Numbers 3060-0027 and 3060-0031, for the non-substantive changes to the forms associated with the Commission's Second Report and Order, FCC 16-107, published at 81 FR 76220-01, Nov. 1, 2016. The Commission publishes this document as an announcement of the effective date of those information collection requirements.

Synopsis

As required by the Paperwork Reduction Act of 1995 (44 U.S.C. 3507), the FCC is notifying the public that on January 11, 2017, OMB approved non-substantive changes to FCC Form 301, FCC Form 314, and FCC Form 315. In doing so, OMB approved non-substantive changes to the pre-approved information collection requirements of OMB Control Numbers 3060-0027 and 3060-0031. Under 5 CFR part 1320, an agency may not conduct or sponsor a collection of information unless it displays a current, valid OMB Control Number. No person shall be subject to any penalty for failing to comply with a collection of information subject to the Paperwork Reduction Act that does not display a current, valid OMB Control Number. The OMB Control Numbers are 3060-0027 and 3060-0031.

The foregoing notice is required by the Paperwork Reduction Act of 1995, Public Law 104-13, October 1, 1995, and 44 U.S.C. 3507.

The total annual reporting burdens and costs for the respondents are as follows:

OMB Control Number: 3060-0027.

OMB Approval Date: January 11, 2017.

OMB Expiration Date: March 31, 2019.

Title: FCC Form 301, Application for Construction Permit for Commercial Broadcast Station; FCC Form 2100, Application for Media Bureau Audio and Video Service Authorization, Schedule A; 47 CFR 73.3700(b)(1) and (2), Post Auction Licensing.

Form Number: FCC Forms 301 and FCC Form 2100, Schedule A.

Respondents: Business or other for-profit entities; Not-for-profit institutions; State, Local or Tribal Government.

Number of Respondents and Responses: 3,080 respondents; 6,516 responses.

Estimated Time per Response: 1 to 6.25 hours.

Frequency of Response: One-time reporting requirement; On occasion reporting requirement; Third party disclosure requirement.

Obligation to Respond: Required to obtain or retain benefits. The statutory authority for this collection of information is contained in Sections 154(i), 303 and 308 of the Communications Act of 1934, as amended.

Total Annual Burden: 15,287 hours.

Total Annual Cost: $62,775,788.

Nature and Extent of Confidentiality: There is no need for confidentiality with this collection of information.

Privacy Act Impact Assessment: No impact(s).

Needs and Uses: FCC Form 301 and the applicable exhibits/explanations are required to be filed when applying for authority to construct a new commercial broadcast station or to modify a licensed facility, construction permit, or application. The revised information collection requirements associated with FCC Form 301 contain non-substantive changes related to the Second Report and Order.

OMB Control Number: 3060-0031.

OMB Approval Date: January 11, 2017.

OMB Expiration Date: September 30, 2018.

Title: Application for Consent to Assignment of Broadcast Station Construction Permit or License, FCC Form 314; Application for Consent to Transfer Control of Entity Holding Broadcast Station Construction Permit or License, FCC Form 315; Section 73.3580, Local Public Notice of Filing of Broadcast Applications.

Form Number: FCC Forms 314 and 315.

Respondents: Business or other for-profit entities; Not-for-profit institutions; State, Local or Tribal Government.

Number of Respondents and Responses: 4,840 respondents; 12,880 responses.

Estimated Time per Response: 0.084 to 6 hours.

Frequency of Response: On occasion reporting requirement; Third party disclosure requirement.

Obligation to Respond: Required to obtain or retain benefits. Statutory authority for this collection of information is contained in Sections 154(i), 303(b) and 308 of the Communications Act of 1934, as amended.

Total Annual Burden: 18,670 hours.

Total Annual Cost: $52,519,656.

Nature and Extent of Confidentiality: There is no need for confidentiality with this collection of information.

Privacy Act Impact Assessment: No impact(s).

Needs and Uses: FCC Form 314 and the applicable exhibits/explanations are required to be filed when applying for consent for assignment of an AM, FM, Low Power FM (LPFM) or TV broadcast station construction permit or license. In addition, the applicant must notify the Commission when an approved assignment of a broadcast station construction permit or license has been consummated.

FCC Form 315 and applicable exhibits/explanations are required to be filed when applying for transfer of control of an entity holding an AM, FM, LPFM or TV broadcast station construction permit or license. In addition, the applicant must notify the Commission when an approved transfer of control of a broadcast station construction permit or license has been consummated. Due to the similarities in the information collected by these two forms, OMB has assigned both forms OMB Control Number 3060-0031.

The revised information collection requirements associated with FCC Forms 314 and 315 contain non-substantive changes related to the Second Report and Order.

Federal Communications Commission.
Marlene H. Dortch,
Secretary.

[FR Doc. 2017-09889 Filed 5-15-17; 8:45 am]

BILLING CODE 6712-01-P